DEPARTMENT OF LABOR

Employment and Training Administration

Investigations Regarding Certification of Eligibility to Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than January 14, 2002.

Interested persons are invited to submit written comments regarding the subject matter of the investigations to the Director, Division of Trade Adjustment Assistance, at the address shown below, not later than January 14, 2002.

The petitions filed in this case are available for inspection at the Office of the Director, Division of Trade Adjustment Assistance, Employment and Training Administration, U.S. Department of Labor, Room C-5311, 200 Constitution Avenue, NW., Washington, DC 20210.

Signed at Washington, DC, this 10th day of December, 2001.
Edward A. Tomchick,
Director, Division of Trade Adjustment Assistance.

Appendix
[Petitions Instituted on 12/10/2001]
TA-W | Subject firm (petitioners) | Location | Date of petition | Product(s)
40,396 | Lady Ester Lingerie (Co.) | Berwick, PA | 10/24/2001 | Lingerie, Sleepwear.
40,397 | Lorber Industries (Co.) | Snyder, TX | 10/22/2001 | Cotton Yarn.
40,398 | R.G. Barry Texas LP (Co.) | San Angelo, TX | 11/20/2001 | Soles for Slippers.
40,399 | Hermes Floral (Wrks) | Becker, MN | 10/17/2001 | Cut Flowers.
40,400 | Meridian Automotive (UAW) | Centralia, IL | 10/18/2001 | Fiberglass Auto Parts.
40,401 | ASARCO, Inc. TN Mines Div (Wrks) | Strawberry Plns, TN | 11/20/2001 | Zinc Concentrate.
40,402 | Prime Tanning Corp (UFCW) | St. Joseph, MO | 10/24/2001 | Wet Blue Leather.
40,403 | Gen Corp (GDX) (USWA) | Marion, IN | 11/28/2001 | Vehicle Sealing.
40,404 | Fender Musical Instrument (Co.) | Westerly, RI | 10/19/2001 | Guitars.
40,405 | Xerox Corp. (UNITE) | Canandaigua, NY | 11/27/2001 | Ink Jet Printhead Cartridges.
40,406 | VF Jeanswear (Co.) | Oneonta, AL | 11/27/2001 | Ladies' Jeans.
40,407 | TRW Automotive Braking (USWA) | Milford, MI | 11/27/2001 | Automotive Braking Systems.
40,408 | Carrier Corp (Wrks) | Conway, AR | 10/19/2001 | Commercial Refrigeration Products.
40,409 | Bogner of America, Inc. (Co.) | Newport, VT | 11/21/2001 | Men's and Ladies' Ski Parkas.
40,410 | Thyssen Mining (Wrks) | Nye, MT | 11/27/2001 | Platinum and Paladium.
40,411 | Bowen Machine (Co.) | El Paso, TX | 11/19/2001 | Construction Labor and Equipment.
40,412 | Alcatel USA (Co.) | Andover, MA | 11/28/2001 | Network Switch (7420 Router).
40,413 | Mikes, Inc. (Co.) | South Roxana, IL | 11/13/2001 | Rods for Diesel Engines.
40,414 | Catawissa Lumber (Co.) | West Jefferson, NC | 11/28/2001 | Hardwood Furniture.
40,415 | Pressman Gutman Co., Inc (Co.) | New York, NY | 10/25/2001 | Textile Piece Goods
40,416 | Schaffstall Manufacturing (Wrks) | North Collins, NY | 10/24/2001 | Components For Xerox Copy Machines.
40,417 | NTN Bower Corp (Wrks) | Hamilton, AL | 10/18/2001 | Tapered Roller Bearings.
40,418 | Wood and Hyde Leather (Wrks) | Gloversville, NY | 10/17/2001 | Finished Leather.
40,419 | Flextronics International (Wrks) | Portsmouth, NH | 10/09/2001 | Electronic Circuit Boards.
40,420 | International Wire Group (Co.) | Pine Bluff, AR | 10/02/2001 | Shielding Wire.
40,421 | Exide Technologies (UAW) | Shreveport, LA | 11/27/2001 | Batteries—Automobile.
40,422 | Crown Marking Equipment (Co.) | Warrington, PA | 10/24/2001 | Plastic Self Inking Rubber Stamp.
40,423 | Wells Lamont Industry (Co.) | Warsaw, IN | 10/24/2001 | Terry Cloth Gloves.
40,424 | Georgia Pacific (Wrks) | Superior, WI | 12/03/2001 | Superior Hardboard.
40,425 | Tenneco Automative (Co.) | Ligonier, IN | 11/26/2001 | Exhaust Systems.
40,426 | Gilbert Western Co. (Wrks) | Nye, MT | 11/28/2001 | Construction Workers.
40,427 | National Ring Traveler Co (Wrks) | Pawtucket, RI | 11/21/2001 | Jewelry Chains.
40,428 | Sunlite Casual Furniture (Krs) | Paragould, AR | 12/04/2001 | Outdoor Patio Furniture.

[FR Doc. 01-32205 Filed 12-31-01; 8:45 am]

BILLING CODE 4510-30-M